DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Actions

On March 3, 2022, OFAC determined that the property and interests in property subject to U.S. jurisdiction of the following persons are blocked under the relevant sanctions authorities listed below.

Individuals

1. DUGINA, Darya Aleksandrovna, Russia; DOB 15 Dec 1992; nationality Russia; Gender Female (individual) [UKRAINE-EO13661] [CYBER2] [ELECTION-EO13848] (Linked To: UNITED WORLD INTERNATIONAL).

Designated pursuant to section 2(a)(iii) of Executive Order 13848 of September 12, 2018, “Imposing Certain Sanctions in the Event of Foreign Interference in a United States Election,” (E.O. 13848) for being owned or controlled by, or having acted or purported to act for or on behalf of, directly or indirectly, UNITED WORLD INTERNATIONAL, a person whose property and interests in property are blocked pursuant to E.O. 13848.

Also designated pursuant to section l(a)(iii)(C) of Executive Order 13694 of April 1, 2015, “Blocking Property of Certain Persons Engaging in Significant Malicious Cyber-Enabled Activities,” as amended by Executive Order 13757 of December 28, 2016, “Taking Additional Steps to Address the National Emergency With Respect to Significant Malicious Cyber-Enabled Activities,” (E.O. 13694, as amended) for being owned or controlled by, or having acted or purported to act for or on behalf of, directly or indirectly, UNITED WORLD INTERNATIONAL, a person whose property and interests in property are blocked pursuant to E.O. 13694, as amended.

Also designated pursuant to section l(a)(ii)(C)(2) of Executive Order 13661 of March 16, 2014, “Blocking Property of Additional Persons Contributing to the Situation in Ukraine,” (E.O. 13661) for being owned or controlled by, or having acted or purported to act for or on behalf of, directly or indirectly, UNITED WORLD INTERNATIONAL, a person whose property and interests in property are blocked pursuant to E.O. 13661.

2. MAMAKOVA, Aelita Leonidovna, Russia; DOB 01 Nov 1988; nationality Russia; Gender Female (individual) [NPWMD] [CYBER2] [ELECTION-EO13848] (Linked To: SOUTHFRONT).

Designated pursuant to section 2(a)(ii) of E.O. 13848 for having materially assisted, sponsored, or provided financial, material, or technological support for, or goods or services in support of, SOUTHFRONT, a person whose property and interests in property are blocked pursuant to E.O. 13848.

Also designated pursuant to section 1(a)(ii)(B) of E.O. 13694, as amended, for having materially assisted, sponsored or provided financial, material, or technological support for, or goods or services to or in support of, SOUTHFRONT, a person whose property and interests in property are blocked pursuant to E.O. 13694, as amended.

Also designated pursuant to section 1(a)(iii) of E.O. 13382, for having provided, or attempted to provide, financial, material, or technological or other support for, or goods or services in support of, SOUTHFRONT, a person whose property and interests in property are blocked pursuant to E.O. 13382.

3. PROKOFYEV, Yuriy Anatolyevich (a.k.a. PROKOFIEV, Yuri), Russia; DOB 14 Apr 1986; nationality Russia; Gender Male (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

4. SKOROKHODOVA, Natalya Petrovna, Russia; DOB 25 Aug 1968; nationality Russia; Gender Female (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

5. FEDIN, Yuriy Sergeyevich, Ukraine; DOB 26 Mar 1989; nationality Russia; Gender Male (individual) [NPWMD] [CYBER2] (Linked To: NEWSFRONT).

Designated pursuant to section l(a)(iii)(B) of E.O. 13694, as amended, for having materially assisted, sponsored, or provided financial, material, or technological support for, or goods or services in support of, NEWSFRONT, a person whose property and interests in property are blocked pursuant to E.O. 13694, as amended.

Also designated pursuant to section 1(a)(iii) of E.O. 13382, for having provided, or attempted to provide, financial, material, or technological or other support for, or goods or services in support of, NEWSFRONT, a person whose property and interests in property are blocked pursuant to E.O. 13382.

6. KNYRIK, Konstantin Sergeyevich, Crimea, Ukraine; DOB 14 Aug 1989; nationality Russia; Gender Male; Tax ID No. 910406732278 (Russia) (individual) [NPWMD] [CYBER2] [CAATSA—RUSSIA] (Linked To: NEWSFRONT; Linked To: FEDERAL SECURITY SERVICE).

Designated pursuant to section l(a)(iii)(C) of E.O. 13694, as amended for being owned or controlled by, or having acted or purported to act for or on behalf of, directly or indirectly, the FEDERAL SECURITY SERVICE and NEWSFRONT, persons whose property and interests in property are blocked pursuant to E.O. 13694, as amended.

Also designated pursuant to section 224(a)(1)(B) of CAATSA, for being owned or controlled by, or having acted or purported to act for or on behalf of, directly or indirectly, the FEDERAL SECURITY SERVICE and NEWSFRONT, persons designated under Section 224(a)(1)(A) of CAATSA.

Also designated pursuant to section 1(a)(iv) of E.O. 13382, for being owned or controlled by, or having acted or purported to act for or on behalf of, directly or indirectly, the FEDERAL SECURITY SERVICE and NEWSFRONT, persons whose property and interests in property are blocked pursuant to E.O. 13382.

7. ILYASHENKO, Andrey Vitalyevich, Russia; DOB 19 Dec 1958; nationality Russia; Gender Male (individual) [NPWMD] [CYBER2] [CAATSA—RUSSIA] (Linked To: INFOROS, OOO).

Designated pursuant to section 1(a)(iii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

8. KRASOVSKIY, Maksim Borisovich, Russia; DOB 28 Jan 1970; nationality Russia; Gender Male; Passport 4514985443 (Russia) (individual) [NPWMD] [CYBER2] [CAATSA—RUSSIA] (Linked To: INFOROS, OOO).

Designated pursuant to section 1(a)(iii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

9. MAKSIMENKO, Vladimir Ilich (a.k.a. MAXIMENKO, Vladimir), Russia; DOB 01 Jan 1954; nationality Russia; Gender Male (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

10. BUBNOVA, Irina Sergeyevna, Russia; DOB 01 Apr 1983; nationality Russia; Gender Female; Passport 703828693 (Russia) (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

11. BESPALOV, Anton Sergeyevich, Russia; DOB 02 Feb 1981; nationality Russia; Gender Male (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

12. SAENKO, Sergei Ivanovich (a.k.a. SAYENKO, Sergey Ivanovich), Russia; DOB 25 Sep 1950; nationality Russia; Gender Male (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

13. ZAMLELOVA, Svetlana Georgiyevna, Russia; DOB 22 Aug 1973; nationality Russia; Gender Female (individual) [ELECTION-EO13848] (Linked To: JOURNAL KAMERTON).

Designated pursuant to section 2(a)(ii) of E.O. 13848 for having materially assisted, sponsored, or provided financial, material, or technological support for, or goods or services in support of, JOURNAL KAMERTON, a person whose property and interests in property are blocked pursuant to E.O. 13848.

14. GAFNER, Denis Yakovlevich, Russia; DOB 08 Sep 1980; nationality Russia; Gender Male; Passport 5003226888 (Russia); Identification Number 21500322688 (Russia) (individual) [NPWMD] [CYBER2] [ELECTION-EO13848] (Linked To: SOUTHFRONT).

Designated pursuant to section 2(a)(ii) of E.O. 13848 for having materially assisted, sponsored, or provided financial, material, or technological support for, or goods or services in support of, SOUTHFRONT, a person whose property and interests in property are blocked pursuant to E.O. 13848.

Also designated pursuant to section 1(a)(ii)(B) of E.O. 13694, as amended, for having materially assisted, sponsored or provided financial, material, or technological support for, or goods or services to or in support of, SOUTHFRONT, a person whose property and interests in property are blocked pursuant to E.O. 13694, as amended.

Also designated pursuant to section 1(a)(iii) of E.O. 13382, for having provided, or attempted to provide, financial, material, or technological or other support for, or goods or services in support of, SOUTHFRONT, a person whose property and interests in property are blocked pursuant to E.O. 13382.

15. CHUGULEVA, Aleyona Anatolyevna, Russia; DOB 14 May 1986; nationality Russia; Gender Female (individual) [NPWMD] [CYBER2] [ELECTION-EO13848] (Linked To: SOUTHFRONT).

Designated pursuant to section 2(a)(ii) of E.O. 13848 for having materially assisted, sponsored, or provided financial, material, or technological support for, or goods or services in support of, SOUTHFRONT, a person whose property and interests in property are blocked pursuant to E.O. 13848.

Also designated pursuant to section 1(a)(ii)(B) of E.O. 13694, as amended, for having materially assisted, sponsored or provided financial, material, or technological support for, or goods or services to or in support of, SOUTHFRONT, a person whose property and interests in property are blocked pursuant to E.O. 13694, as amended.

Also designated pursuant to section 1(a)(iii) of E.O. 13382, for having provided, or attempted to provide, financial, material, or technological or other support for, or goods or services in support of, SOUTHFRONT, a person whose property and interests in property are blocked pursuant to E.O. 13382.

16. KALABAYEVA, Valeriya, Russia; DOB 01 Oct 1997; nationality Russia; Gender Female; Passport 653701605 (Russia) (individual) [NPWMD] [CYBER2] [ELECTION-EO13848] (Linked To: SOUTHFRONT).

Designated pursuant to section 2(a)(ii) of E.O. 13848 for having materially assisted, sponsored, or provided financial, material, or technological support for, or goods or services in support of, SOUTHFRONT, a person whose property and interests in property are blocked pursuant to E.O. 13848.

Also designated pursuant to section 1(a)(ii)(B) of E.O. 13694, as amended, for having materially assisted, sponsored or provided financial, material, or technological support for, or goods or services to or in support of, SOUTHFRONT, a person whose property and interests in property are blocked pursuant to E.O. 13694, as amended.

Also designated pursuant to section 1(a)(iii) of E.O. 13382, for having provided, or attempted to provide, financial, material, or technological or other support for, or goods or services in support of, SOUTHFRONT, a person whose property and interests in property are blocked pursuant to E.O. 13382.

17. SINELIN, Mikhail Anatolyevich (a.k.a. SINELIN, Mihail Anatol'evich), Russia; DOB 14 Aug 1989; nationality Russia; Gender Male; Passport 100019509 (Russia) (individual) [NPWMD] [CYBER2] (Linked To: NEWSFRONT).

Designated pursuant to section l(a)(ii)(B) of E.O. 13694, as amended, for having materially assisted, sponsored, or provided financial, material, or technological support for, or goods or services in support of, NEWSFRONT, a person whose property and interests in property are blocked pursuant to E.O. 13694, as amended.

Also designated pursuant to section 1(a)(iii) of E.O. 13382, for having provided, or attempted to provide, financial, material, or technological or other support for, or goods or services in support of, NEWSFRONT, a person whose property and interests in property are blocked pursuant to E.O. 13382.

18. GLOTOV, Yevgeniy Eduardovich, Ukraine; DOB 19 Sep 1987; nationality Ukraine; Gender Male; National ID No. 3203817519 (Ukraine) (individual) [NPWMD] [CYBER2] (Linked To: NEWSFRONT).

Designated pursuant to section l(a)(ii)(B) of E.O. 13694, as amended, for having materially assisted, sponsored, or provided financial, material, or technological support for, or goods or services in support of, NEWSFRONT, a person whose property and interests in property are blocked pursuant to E.O. 13694, as amended.

Also designated pursuant to section 1(a)(iii) of E.O. 13382, for having provided, or attempted to provide, financial, material, or technological or other support for, or goods or services in support of, NEWSFRONT, a person whose property and interests in property are blocked pursuant to E.O. 13382.

19. DOROKHOVA, Nina Viktorovna, Russia; DOB 20 Nov 1965; nationality Russia; Gender Female (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

20. NEZHDANOVA, Yevgeniya Vitalyevna, Russia; DOB 07 May 1981; nationality Russia; Gender Female (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

21. KAMYSHANOVA, Aleksandra Aleksandrovna, Russia; DOB 29 Nov 1986; nationality Russia; Gender Female (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

22. KIRILLOVA, Anastasiya Sergeyevna, Russia; DOB 31 Dec 1986; nationality Russia; Gender Female (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

23. KRANS, Maksim Iosifovich, Russia; DOB 08 Mar 1950; nationality Russia; Gender Male (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

24. POGREBENKOV, Valeriy Ivanovich, Russia; DOB 19 Jul 1947; nationality Russia; Gender Male (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

25. TATARCHENKO, Denis Sergeyevich (a.k.a. TATARCHENKO, Denis), Russia; DOB 01 Feb 1991; nationality Russia; Gender Male (individual) [NPWMD] [CYBER2] [CAATSA—RUSSIA] (Linked To: INFOROS, OOO).

Designated pursuant to section 1(a)(ii)(C) of E.O. 13694, as amended, for being owned or controlled by, or having acted or purported to act for or on behalf of, directly or indirectly, INFOROS, OOO, a person whose property and interests in property are blocked pursuant to E.O. 13694, as amended.

Also designated pursuant to section 224(a)(1)(B) of CAATSA, for being owned or controlled by, or having acted or purported to act for or on behalf of, directly or indirectly, INFOROS, OOO, a person designated under Section 224(a)(1)(A) of CAATSA.

Also designated pursuant to section 1(a)(iv) of E.O. 13382, for being owned or controlled by, or having acted or purported to act for or on behalf of, directly or indirectly, INFOROS, OOO, a person whose property and interests in property are blocked pursuant to E.O. 13382.

26. ARESHEV, Andrey Grigoryevich, Russia; DOB 21 Jul 1974; nationality Russia; Gender Male (individual) [ELECTION-EO13848] (Linked To: THE STRATEGIC CULTURE FOUNDATION).

Designated pursuant to section 2(a)(ii) of E.O. 13848 for having materially assisted, sponsored, or provided financial, material, or technological support for, or goods or services in support of, THE STRATEGIC CULTURE FOUNDATION, a person whose property and interests in property are blocked pursuant to E.O. 13848.

BILLING CODE 4810-AL-P

Dated: March 3, 2022.
Andrea M. Gacki,
Director, Office of Foreign Assets Control, U.S. Department of the Treasury.

[FR Doc. 2022-05096 Filed 3-9-22; 8:45 am]

BILLING CODE 4810-AL-C